INTERNATIONAL TRADE COMMISSION

[USITC SE-19-044]

Sunshine Act Meetings

Agency Holding the Meeting: United States International Trade Commission.

TIME AND DATE: December 6, 2019 at 11:00 a.m.

PLACE: Room 101, 500 E Street SW, Washington, DC 20436, Telephone: (202) 205-2000.

STATUS: Open to the public.

MATTERS TO BE CONSIDERED:

1. Agendas for future meetings: None.

2. Minutes.

3. Ratification List.

4. Vote on Inv. Nos. 701-TA-631 and 731-TA-1463-1464 (Preliminary) (Forged Steel Fittings from India and Korea). The Commission is currently scheduled to complete and file its determinations on December 9, 2019; views of the Commission are currently scheduled to be completed and filed on December 16, 2019.

5. Outstanding action jackets: None.

The Commission is holding the meeting under the Government in the Sunshine Act, 5 U.S.C. 552(b). In accordance with Commission policy, subject matter listed above, not disposed of at the scheduled meeting, may be carried over to the agenda of the following meeting.

By order of the Commission.
Issued: November 20, 2019.
William Bishop,
Supervisory Hearings and Information Officer.

[FR Doc. 2019-25500 Filed 11-20-19; 11:15 am]

BILLING CODE 7020-02-P